DEPARTMENT OF LABOR

Employment and Training Administration

[TA-W-63,729]

Manugraph DGM, Inc., Millersburg, PA; Notice of Termination of Investigation

Pursuant to section 221 of the Trade Act of 1974, as amended, an investigation was initiated on July 23, 2008 in response to a petition filed by a company official on behalf of workers at Manugraph DGM, Inc., Millersburg, Pennsylvania. The workers at the subject facility produce web offset printing presses.

The petitioner has requested that the petition be withdrawn. Consequently, the investigation has been terminated.

Signed in Washington, DC, this 1st day of August 2008.
Richard Church,
Certifying Officer, Division of Trade Adjustment Assistance.

[FR Doc. E8-18578 Filed 8-11-08; 8:45 am]

BILLING CODE 4510-FN-P